DEPARTMENT OF HOMELAND SECURITY

Coast Guard

33 CFR Part 117

[CGD01-07-158]

Drawbridge Operation Regulations; Cheesequake Creek, Morgan, NJ

AGENCY: Coast Guard, DHS.

ACTION: Notice of temporary deviation from regulations.

SUMMARY: The Commander, First Coast Guard District, has issued a temporary deviation from the regulation governing the operation of the New Jersey Transit Rail Operation (NJTRO) Railroad Bridge across Cheesequake Creek, mile 0.2, at Morgan, New Jersey. Under this temporary deviation, the bridge may remain in the closed position from January 2, 2008 through March 31, 2008. Vessels that can pass under the draw without a bridge opening may do so at all times. This deviation is necessary to facilitate scheduled bridge maintenance.

DATES: This deviation is effective from January 2, 2008 through March 31, 2008.

ADDRESSES: Materials referred to in this document are available for inspection or copying at the First Coast Guard District, Bridge Branch Office, One South Street, New York, New York 10004, between 7 a.m. and 3 p.m., Monday through Friday, except Federal holidays. The telephone number is (212) 668-7165. The First Coast Guard District Bridge Branch Office maintains the public docket for this temporary deviation.

FOR FURTHER INFORMATION CONTACT: Joe Arca, Project Officer, First Coast Guard District, at (212) 668-7069.

SUPPLEMENTARY INFORMATION: The NJTRO railroad bridge has a vertical clearance of 3 feet at mean high water, and 8 feet at mean low water in the closed position. The existing drawbridge operating regulations, listed at 33 CFR 117.709(b), require the bridge to open on signal; except that, at least a four hour notice for bridge openings is required from January 1 through March 31 from 6 p.m. to 6 a.m.

The bridge owner, New Jersey Transit Rail Operations (NJTRO), requested a bridge closure to facilitate structural and mechanical rehabilitation at the NJTRO railroad bridge.

Under this temporary deviation, the NJTRO railroad bridge may remain closed to navigation from January 1, 2008 through March 31, 2008. Vessels that can pass under the bridge without an opening may do so at all times.

A small number of fishing boats are docked upstream from the NJTRO railroad bridge; however, Cheesequake Creek is predominantly a recreational waterway. From January through March, the recreational vessels are in winter storage and the waterway is normally not transited. The Coast Guard met with the mariners to discuss this bridge project and related closure. The mariners agreed with the closure dates since that is the time period the bridge seldom opens and the waterway is normally frozen.

In accordance with 33 CFR 117.35(e), the bridge must return to its regular operating schedule immediately at the end of the designated time period. This deviation from the operating regulations is authorized under 33 CFR 117.35.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

Dated: November 26, 2007.
Gary Kassof,
Bridge Program Manager, First Coast Guard District.

[FR Doc. E7-23568 Filed 12-4-07; 8:45 am]

BILLING CODE 4910-15-P